DEPARTMENT OF HEALTH AND HUMAN SERVICES

National Institutes of Health

National Eye Institute; Notice of Closed Meeting

Pursuant to section 1009 of the Federal Advisory Committee Act, as amended, notice is hereby given of a meeting of the National Advisory Eye Council.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Eye Council.

Date: March 20, 2026.

Time: 10:00 a.m. to 12:00 p.m.

Agenda: To review and evaluate grant applications and/or proposals.

Address: National Eye Institute, 6700B Rockledge Drive, Bethesda, MD 20892.

Meeting Format: Virtual Meeting.

Contact Person: Hyo-Jung Anna Han, Acting Director, Division of Extramural Activities, National Eye Institute, 6700B Rockledge Drive, Bethesda, MD 20892, anna.han@nih.gov.

Information is also available on the Institute's/Center's home page: https://www.nei.nih.gov/about/advisory-committees/national-advisory-eye-council-naec, where an agenda and any additional information for the meeting will be posted when available.

Dated: January 28, 2026.
Rosalind M. Niamke,
Program Analyst, Office of Federal Advisory Committee Policy.

[FR Doc. 2026-01879 Filed 1-29-26; 8:45 am]

BILLING CODE 4140-01-P